DEPARTMENT OF THE INTERIOR

National Park Service

Flight 93 National Memorial Advisory Commission

AGENCY: National Park Service, Interior.

ACTION: Notice of May 14, 2004, meeting.

SUMMARY: This notice sets forth the date of the May 14, 2004, meeting of the Flight 93 Advisory Commission.

DATES: The public meeting will be held on May 14, 2004, from 10 a.m. to 4 p.m.

Location: The meeting will be held at the Flight 93 National Memorial office, 109 West Main Street, Newberry Building, Somerset, Pennsylvania, 15501.

Agenda

The May 14, 2004 meeting will consist of:

(1) Opening of Meeting and Pledge of Allegiance.

(2) Review and Approval of Minutes from February 20, 2004.

(3) Reports from the Flight 93 Memorial Task Force Committees and the National Park Service Administration Committee.

Lands/Resource Assessment Committee;

Memorial Ideas Planning Committee;

Design Solicitation Committee;

Fundraising Committee;

Government Relations Committee;

Public Relations Committee;

Archives Committee;

Temporary Memorial Management Committee;

Family Memorial Committee;

Families of Flight 93, Inc.;

National Park Service;

Comments from the public will be received after each committee briefing.

(4) Old Business.

(5) New Business.

(6) Closing Remarks.

FOR FURTHER INFORMATION CONTACT: Joanne M. Hanley, Superintendent, Flight 93 National Memorial, 109 West Main Street, Somerset, PA 15501.

SUPPLEMENTARY INFORMATION: The meeting will be open to the public. Any member of the public may file with the Commission a written statement concerning agenda items. The statement should be addressed to the Flight 93 Advisory Commission, 109 West Main Street, Somerset, PA 15501.

Dated: March 29, 2004.
Joanne M. Hanley,
Superintendent, Flight 93 National Memorial.

[FR Doc. 04-9345 Filed 4-23-04; 8:45 am]

BILLING CODE 4310-WH-M